DEPARTMENT OF AGRICULTURE

Forest Service

Tongass National Forest Report Clarification

AGENCY: Forest Service, USDA.

ACTION: Notice of clarification of a report prepared for the draft environmental impact statement for the Tongass Land and Resource Management Plan Amendment.

SUMMARY: A clarification to the Timber Markets Update and Analysis of an Integrated Southeast Alaska Forest Products Industry prepared for the Tongass Land and Resource Management Plan Amendment Draft Environmental Impact Statement is available for review and comment on the following Web site: http://tongass-fpadjust.net/Documents/McDowellGroupLetter-2006.pdf.

DATES: Any comments on this report may be included with those on Tongass Land and Resource Management Plan Draft Environmental Impact Statement. The 90-day comment period began on January 12, 2007.

FOR FURTHER INFORMATION CONTACT: Lee Kramer, Project Team Leader, Forestry Science Laboratory, 2770 Sherwood Land, Suite 2A, Juneau, AK 99801-8545, phone: (907) 586-8811, ext. 225, or e-mail lkramer@fs.fed.us. Additional information is available on the Tongass Forest Plan Adjustment Internet site at www.tongass-fpadjust.net.

Dated: January 10, 2007.
Paul K. Brewster,
Deputy Regional Forester.

[FR Doc. 07-200 Filed 1-18-07; 8:45 am]

BILLING CODE 3410-11-M